DEPARTMENT OF THE INTERIOR

Fish and Wildlife Service

Final Comprehensive Conservation Plan for Necedah National Wildlife Refuge

AGENCY: Fish and Wildlife Service, Interior.

ACTION: Notice of availability.

SUMMARY: The U.S. Fish and Wildlife Service (Service) announces that the final Comprehensive Conservation Plan (CCP) and Environmental Assessment (EA) is available for Necedah National Wildlife Refuge. This CCP is prepared pursuant to the National Wildlife Refuge System Administration Act of 1966, as amended by the National Wildlife Refuge System Improvement Act of 1997, and the National Environmental Policy Act of 1969, and describes how the Service intends to manage this refuge over the next 15 years.

DATES: Implementation of the CCP will not begin sooner than 30 days following the Finding of No Significant Impact (FONSI).

ADDRESSES: Copies of the CCP are available on compact diskette or hard copy, and can be obtained in writing: Necedah National Wildlife Refuge, W7996 20th Street West, Necedah, WI 54646-7531. Copies of the CCP can also be accessed and downloaded at the following Web site address: http://midwest.fws.gov/planning/Necedah/index.html.

FOR FURTHER INFORMATION CONTACT: Larry Wargowski at 608-565-2551.

SUPPLEMENTARY INFORMATION: The National Wildlife Refuge System Administration Act of 1966, as amended by the National Wildlife Refuge System Improvement Act of 1997 (16 U.S.C. 668dd-668ee et seq) requires a CCP. The purpose in developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Necedah National Wildlife Refuge was established in 1939 as a refuge and breeding ground for migratory birds and for use as an inviolate sanctuary for migratory birds. Located in central Wisconsin, the Refuge includes 43,696 acres consisting of wetlands and open water areas, pine, oak, and aspen forests, grasslands, and rare savannas.

Three alternatives were considered in the EA: (1) No action; (2) follow the course set in the 1979 Master Plan; or (3) follow the course established in the CCP (preferred alternative). Significant issues addressed in the CCP include the proposal to acquire land within the Yellow River Focus Area and management of endangered species that use the Refuge, including the Eastern massassagua rattlesnake, the Karner blue butterfly, and a migratory flock of Whooping Cranes. There was strong public interest in the plan, and the Service provided many opportunities for public comment in meetings in the community. Following a 60-day comment period on the Draft CCP (65 FR 46940, August 1, 2000), a revised Draft CCP was produced and another 60-day comment period was provided (66 FR 52776, October 17, 2001). The plan was revised to address the issues raised by the public, including the decision to reduce the area within the Yellow River Focus Area where land acquisition would be one of the tools available to facilitate restoration and conservation efforts. Assistance to local landowners would remain the priority means of habitat restoration and conservation throughout the Focus Area. It has been determined that the CCP is not a major Federal action that would significantly affect the quality of the human environment, within the meaning of Section 102(2)(c) of the National Environmental Policy Act of 1969.

Dated: March 26, 2003.
Marvin E. Moriarty,
Acting Regional Director.

Editorial Note: This document was received at the Office of the Federal Register December 20, 2004.

[FR Doc. 04-28142 Filed 12-23-04; 8:45 am]

BILLING CODE 4310-55-M